DEPARTMENT OF ENERGY

Federal Energy Regulatory Commission

[Docket No. RP01-39-001 and RP00-484-002]

Wyoming Interstate Company, Ltd; Notice of Compliance Filing

December 19, 2001.

Take notice that on December 12, 2001, Wyoming Interstate Company, Ltd (WIC) tendered for filing as part of its FERC Gas Tariff, Second Revised Volume No. 2, the following tariff sheets to become effective November 1, 2000:

First Revised Third Revised Sheet No. 41

First Revised Sheet No. 41A

First Revised Sheet No. 41B

WIC states that the filing is being submitted to revise its imbalance netting and trading tariff provisions and bring its tariff into compliance with the requirements of Order Nos. 587-G and 587-L.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31687 Filed 12-26-01; 8:45 am]

BILLING CODE 6717-01-P